DEPARTMENT OF TRANSPORTATION

Federal Aviation Administration

Notice of Intent To Rule on Application 05-06-C-00-CAK To Impose and Use the Revenue From a Passenger Facility Charge (PFC) at Akron-Canton Regional Airport, North Canton, OH

AGENCY: Federal Aviation Administration (FAA), DOT.

ACTION: Notice of intent to rule on application.

SUMMARY: The FAA proposes to rule and invites public comment on the application to impose and use the revenue from PFC at Akron-Canton Regional Airport under the provisions of the 49 U.S.C. 40117 and part 158 of the Federal Aviation Regulations (14 CFR part 158).

DATES: Comments must be received on or before February 7, 2005.

ADDRESSES: Comments on this application may be mailed or delivered in triplicate to the FAA at the following address: Detroit Airports District Office, 1677 South Wayne Road, Suite 107, Romulus, Michigan 48174.

In addition, one copy of any comments submitted to the FAA must be mailed or delivered to Mr. Richard B. McQueen, Assistant Airport Director of the Akron-Canton Regional Airport Authority at the following address: 5400 Lauby Rd #9, North Canton, Ohio 44720.

Air carriers and foreign air carriers may submit copies of written comments previously provided to the Akron-Canton Regional Airport Authority under section 158.23 of part 158.

FOR FURTHER INFORMATION CONTACT: Mr. Jason Watt, Program Manager, Detroit Airport District Office, 11677 South Wayne Road, Suite 107, Romulus, Michigan 48174, (734) 229-2906. The application may be reviewed in person at this same location.

SUPPLEMENTARY INFORMATION: The FAA proposes to rule and invites public comment on the application to impose and use the revenue from a PFC at Akron-Canton Regional Airport under the provisions of the 49 U.S.C. 40117 and part 158 of the Federal Aviation Regulations (14 CFR part 158).

On December 8, 2004, the FAA determined that the application to impose and use the revenue from a PFC submitted by Akron-Canton Regional Airport Authority was substantially complete within the requirements of section 158.25 of Part 158. The FAA will approve or disapprove the application, in whole or in part, no later than April 11, 2005.

The following is a brief overview of the application.

Proposed Charge Effective Date: November 1, 2006.

Proposed Charge Expiration Date: August 1, 2015.

Level of the Proposed PFC: $4.50.

Total Estimated PFC Revenue: $21,369,000.

Brief Description of Proposed Projects: Property Acquisition, Security Enhancements, Glycol Recovery Study and Design, Acquire Snow Removal Equipment, Aircraft Apron Rehabilitation, Terminal Rehabilitation, Runway 14/32 Closure/Conversion to Taxiway.

Class or Classes of Air Carriers, Which the Public Agency Has Requested Not be Required to Collect PFCs: Air Taxi/Commercial Operators.

Any person may inspect the application in person at the FAA office listed above under FOR FURTHER INFORMATION CONTACT. The application may be reviewed in person at this same location.

In addition, any person may, upon request, inspect the application, notice and other documents germane to the application in person at the Akron-Canton Regional Airport Authority.

Issued in Des Plaines, Illinois on December 29, 2004.
Elliott Black,
Manager, Planning and Programming Branch, Airports Division, Great Lakes Region.

[FR Doc. 05-237 Filed 1-5-05; 8:45 am]

BILLING CODE 4910-13-M